DEPARTMENT OF HEALTH AND HUMAN SERVICES

Health Care Financing Administration

[HCFA-1174-N]

Medicare Program; Meeting of the Advisory Panel on Ambulatory Payment Classification Groups

AGENCY: Health Care Financing Administration (HCFA), HHS.

ACTION: Notice of meeting.

SUMMARY: In accordance with section 10(a) of the Federal Advisory Committee Act (5 U.S.C. App. 2), this notice announces the first annual meeting of the Advisory Panel on Ambulatory Payment Classification Groups. The purpose of this panel is to review the ambulatory payment classification (APC) groups and provide technical advice to the Secretary of the Department of Health and Human Services (the Secretary) and the Administrator of the Health Care Financing Administration (the Administrator) concerning the clinical integrity of the APC groups and their associated weights. This meeting is taking place at this time because the technical advice of the panel will be considered as HCFA prepares its annual Notice of Proposed Rulemaking that will propose changes to the Outpatient Prospective Payment System (OPPS) that will be published in the spring of 2001. The next meeting of the panel will be in early calendar year 2002.

DATES: The meeting is scheduled for Tuesday, February 27, Wednesday, February 28, and Thursday, March 1, 2001 from 9 a.m. to 5 p.m. e.s.t.

ADDRESSES: The meeting will be held in Room 800 of the Hubert H. Humphrey Building, 200 Independence Avenue SW., Washington, DC 20201.

FOR FURTHER INFORMATION CONTACT: Paul Olenick (410) 786-0282. Please refer to the HCFA Advisory Committees Information Line (1-877-449-5659 toll free)/(410-786-9379 local), or the Internet (http://www.hcfa.gov/fac/apcpage.htm) for additional information and updates on committee activities.

SUPPLEMENTARY INFORMATION: The Secretary is required by section 1833(t)(9)(A) of the Social Security Act, as added by section 201(h)(1)(B) and redesignated by section 202(a)(2) of the Balanced Budget Refinement Act of 1999, to consult with an APC advisory panel. The panel will meet once annually to review the APC groups and provide technical advice to the Secretary and the Administrator of HCFA concerning the clinical integrity of the groups and their associated weights. The technical advice provided by the panel at its annual meeting will be considered as HCFA prepares the annual Notice of Proposed Rulemaking that will propose changes to the OPPS for the next calendar year.

The panel consists of 15 representatives of Medicare providers that are subject to the OPPS. The members were selected by the Administrator of HCFA based upon either self-nominations or nominations submitted by providers or organizations.

The current members of the panel are: Michelle Burke, R.N.; Leslie Jane Collins, R.N.; Geneva Craig, R.N.; Lora A. DeWald, M.Ed; Gretchen M. Evans, R.N.; Robert E. Henkin, M.D.; Lee H. Hilborne, M.D.; Stephen T. House, M.D.; Kathleen P. Kinslow, CRNA, Ed.D; Mike Metro, R.N.; Gerald V. Naccarelli, M.D.; Beverly K. Philip, M.D.; Karen L. Rutledge, B.S.; William A. Van Decker, M.D.; and Paul E. Wallner, D.O. The panel Chairperson is Paul M. Rudolf, M.D., J.D., a HCFA medical officer.

The agenda will provide for discussion and comment on the following topics:

• Reconfiguration of APCs, such as splitting of an APC and moving CPT codes from one APC to another.

• Removal of specific surgical procedures from the inpatient list.

• Specific clinical issues regarding observation care.

• Other technical issues concerning APC structure.

For more detailed information on the agenda topics see our website at ­ http://www.hcfa.gov/fac/apcpage.htm. We are soliciting comments from the public on specific proposed items falling within the agenda topics for this meeting of the panel. We will consider proposed items for this meeting only if they fall within the agenda topics listed above. In order to be considered as a potential agenda topic for this meeting, comments must be in writing. We urge commenters to send comments as soon as possible. Comments relating to this meeting must be received no later than 5 p.m. on Tuesday, February 20, 2001. Send comments to the following address: Health Care Financing Administration, Department of Health and Human Services, Attn: Paul J. Olenick, Mail Stop C4-01-26, 7500 Security Boulevard, Baltimore, MD 21244-1850.

Comments may also be sent via electronic mail to outpatientpps@hcfa.gov. Because of staffing and resource limitations, we cannot accept comments by facsimile (FAX) transmission and cannot acknowledge or respond individually to comments we receive. Comments that are included in the agenda topics will be addressed in the proposed rule that will be published in the spring of 2001.

Comments on agenda topics for future meetings will also be accepted at the above addresses.

The meeting is open to the public, but attendance is limited to the space available. Individuals or organizations wishing to make oral presentations on the agenda items should submit a copy of the presentation and the name, address and telephone number of the proposed presenter. In order to be scheduled to speak, this information must be received no later than 5 p.m., Tuesday, February 20, 2001 at the above address. Alternatively, the information may be sent electronically to the email address specified above. Because of staffing and resource limitations, we cannot accept this information by facsimile (FAX).

Presentations are limited to no more than 5 minutes and must be on the listed agenda topics only. The number of presentations may be limited by the time available.

• In addition to formal presentations, there will be an opportunity during the meeting for public comment, limited to one minute for each individual or organization. The number of speakers may be limited by the time available.

Individuals requiring sign language interpretation for the hearing impaired or other special accommodations should contact Paul Olenick at (410) 786-0282 at least 10 days before the meeting.

(Section 1833 of the Social Security Act (42 U.S.C. 1395l) and section 10(a) of Pub. L. 92-463 (5 U.S.C. App. 2, section 10(a)); 45 CFR part 11)

(Catalog of Federal Domestic Assistance Program No. 93.773, Medicare-Hospital Insurance; and Program No. 93.774, Medicare-Supplementary Medical Insurance Program)

Dated: January 30, 2001.
Michael McMullan,
Acting Deputy Administrator, Health Care Financing Administration.

[FR Doc. 01-3122 Filed 2-9-01; 8:45 am]

BILLING CODE 4120-01-P